DEPARTMENT OF THE INTERIOR

Bureau of Indian Affairs

Privacy Act of 1974, as Amended; Amendment of an Existing System of Records

AGENCY: Bureau of Indian Affairs, Interior.

ACTION: Proposed amendment of an existing system of records.

SUMMARY: Under the Privacy Act of 1974, as amended (5 U.S.C. 552a), the Bureau of Indian Affairs (BIA) is issuing public notice of our intent to change an existing Privacy Act system of records notices entitled Interior BIA-04 “Indian Land Records,” published at 48 FR 41098 (September 13, 1983). BIA proposes to: (1) Update the information on the location of the records and the technology used to store and retrieve records; (2) identify new information that will be included in the system of records; (3) clearly state the current routine uses of the records by organizations and individuals outside of the Department of the Interior (DOI); and (4) expand the routine uses of such information to include the disclosure of names and mailing addresses of owners of trust and restricted lands, among other information, to certain statutorily defined categories of persons.

BIA is accomplishing these changes in part by updating its system of records through conversion to a new application, Trust Asset and Accounting Management System (TAAMS), which has or will replace several BIA legacy systems such as the Land Records Information System (LRIS) and Integrated Records Management System (IRMS).

DATES: The proposed new system of records will become effective without further notice on April 9, 2007, unless comments received result in a contrary determination. Under 5 U.S.C. 552a(e)(11), the public is provided a 30-day period in which to comment on the agency's intended use of the information in the system of records. The Office of Management and Budget (OMB), in its Circular A-130, requires an additional 10-day period in which the OMB may comment (for a total of 40 days in which to make these comments). BIA will publish a notice if changes are made based on review of comments received.

ADDRESSES: Any persons interested in commenting on this proposed amendment may do so by submitting comments in writing to the Deputy Director, Office of Trust Services, Bureau of Indian Affairs, 1849 C Street, NW., MS 4513-MIB, Washington DC 20240, or fax to (202) 208-2549.

FOR FURTHER INFORMATION CONTACT: For information regarding “Indian Land Records, BIA-04” contact Arch Wells, Deputy Director, Office of Trust Services, Bureau of Indian Affairs, 1849 C Street, NW., MS 4513—MIB, Washington DC 20240 at (202) 208-5831.

SUPPLEMENTARY INFORMATION: This notice is published pursuant to the Privacy Act of 1974 (5 U.S.C. 552a(e)(4)) and is in exercise of authority delegated by the Secretary of the Interior to the Principal Deputy Assistant Secretary—Indian Affairs in 209 DM 8.1. This notice amends the Privacy Act System of Records entitled BIA-04: Indian Land Records. The purpose of the amendment is to reflect the modernization of the title and trust systems with the development of a new electronic system for managing Indian assets and land records. TAAMS will replace several legacy systems that were used to manage Indian trust assets: LRIS, which supports the land title function by providing land title-related information, such as ownership and encumbrances; and IRMS, which supports the land resource management function and contains information on Indians, leases (e.g., pasture, range, timber, mineral, and mining leases), land ownership, oil and gas royalties, and trust fund accounts. TAAMS integrates the two legacy systems to reduce duplication of information and support all land title and resource management functions. TAAMS provides up-to-date legal and beneficial title ownership and encumbrance information for all Indian lands and resources, including automated calculation of fractional interests and automated chain-of-title processes and information. TAAMS users will be allowed to access, create, and modify records in the BIA database for land ownership, contracts and leases, and beneficial owners. Until full implementation of TAAMS, IRMS and the Royalty Distribution and Reporting System (RDRS) will be the official automated systems for income allocations. TAAMS, IRMS, and RDRS will include:

(a) A legal land description, chain-of-title history, current ownership, including title and beneficial ownership, and resource management classification for all land held in trust or restricted status by the Federal Government for the benefit of Indian tribes and individual Indians;

(b) Any encumbrances against the title to land;

(c) The name, address, BIA identification number (assigned by BIA in TAAMS), and Social Security Number (Federal Identification number) of each Indian land owner;

(d) The name, address, and Social Security Number of each person who has a permit, lease, contract, right-of-way or other legal instrument approved by the Secretary of the Interior that allows such person to use the trust or restricted land or to extract renewable or nonrenewable resources from such land;

(e) The name, address, and Federal taxpayer identification number of any company that has a permit, lease, contract, right-of-way or other legal instrument approved by the Secretary of the Interior that allows such company to use the trust or restricted land or to extract renewable or nonrenewable resources from such land;

(f) The term of the permit, lease, contract, right-of-way or other legal instrument; and

(g) The trust income collected and distributed for such permit, lease, contract, right-of-way or other legal instrument.

In addition to expanding the information maintained in the system of records, changes to existing routine uses are made to better clarify instances when the release of information may be made to legal and law enforcement entities. Additionally, changes to existing routine uses authorize the release of names and mailing addresses of individuals owning an interest in trust or restricted land, information on the location of the parcel, and the percentage of undivided interest owned by each individual, upon written request, to the following statutorily defined categories of persons:

(1) Other owners of interests in trust or restricted lands within the same reservation;

(2) The tribe that exercises jurisdiction over the land where the parcel is located or any person who is eligible for membership in that tribe; and

(3) Any person that is leasing, using, or consolidating, or is applying to lease, use, or consolidate, such trust or restricted land, or the interest in trust or restricted lands.

The purpose of these revisions is to enhance the ability of individual Indians to realize economic benefit from their land by simplifying the leasing or contracting process, and to assist and encourage the consolidation of land ownership.

Changes to the existing system of records, Indian Land Records—Interior, BIA-04 (September 13, 1983, 48 FR 41098) are summarized here:

System name: Change name to “Trust Asset and Accounting Management System (TAAMS)—Interior, BIA-04”

* * * * *

System location: Delete reference to the “Land Records Improvement Program Liaison Office, Bureau of Indian Affairs, 500 Gold Ave., S.W., Albuquerque, NM 87103” and insert the “Division of Real Estate Services, Office of Trust Services.” Add the three new Regional Offices—Anchorage, Alaska; Muskogee, Oklahoma; and Sacramento, California. Add a new category of system location for offices of those Indian tribal governments that administer realty or title programs under Self-Determination or Self-Governance awards.

Categories of individuals covered by the system: Expand this category to include non-Indians who are owners of land held in trust or restricted status by the Federal Government and individuals, non-Indians and Indians, Indian tribal entities, private businesses and financial institutions that have a permit, lease, contract, right-of-way, or other legal instrument approved by the Secretary of the Interior that allows them to use trust or restricted land or to extract resources from the trust or restricted land.

Categories of records in the system: Add a description of the formats in which records are held. Expand the categories to include title and beneficial ownership, resource management classification for land, encumbrances on title, the name, address, and Federal tax identification number of landowners, persons, and entities with a legal instrument approved by the Secretary of the Interior allowing them to use the trust or restricted land, or extract resources, the term of the legal instrument, and the amount of the trust income collected pursuant to the legal instrument.

Authority for maintenance of this system: Add references to additional statutory and regulatory authority.

Routine uses of records maintained in this system, including categories of users and the purposes of such uses: Change the language of the internal uses to provide more specificity. Expand disclosures outside of DOI to allow access, upon written request, to statutorily defined categories of persons of: (1) Names and mailing addresses of owners of trust and restricted lands; and (2) information on the location of the parcel and the percentage of undivided interest owned by each individual.

* * * * *

Policies and practices for storing, retrieving, accessing, retaining, and disposing of records in the system:

Storage: Add specificity on description of manual storage. Add electronic storage description to reflect use of TAAMS.

Retrievability: Add description of who has authorization to retrieve records. Revise list of means for retrieving records to reflect use of TAAMS.

Safeguards: Add specific description of safeguards employed for paper and electronic records.

Retention and disposal: Add statement regarding location of paper originals, copies and certified copies of Indian land records.

System manager(s) and address: Update title to reflect new office name and a mail stop.

Notification procedure: Provide more explicit directions on how to address a request for information concerning whether the system contains information about you, to ensure the proper office receives the request.

Record access procedure: Provide more explicit directions on how to address a request for copies of records in the system to ensure the proper office receives the request.

Contesting record procedure: Provide more explicit directions on how to address a request for corrections to, or the removal of, any specific record contained in the system to ensure the proper office receives the request.

Record source categories: Provide a more specific description of the sources of legal records.

A copy of the notice, with changes incorporated, is attached.

Dated: February 7, 2007.
Michael D. Olsen,
Principal Deputy Assistant Secretary—Indian Affairs.

INTERIOR/BIA-04

System name:

Trust Asset and Accounting Management System (TAAMS)—Interior, BIA-04.

System classification:

None.

System location:

Land title records documents are stored and used, and the TAAMS application is used at the:

(1) Division of Real Estate Services, Office of Trust Services, Bureau of Indian Affairs, 1849 C Street, NW., MS 4513 MIB, Washington, DC, 20240;

(2) Title plants at the following eight regional offices of the BIA: Aberdeen, South Dakota; Albuquerque, New Mexico; Anadarko, Oklahoma; Anchorage, Alaska; Billings, Montana; Muskogee, Oklahoma; Portland, Oregon; and Sacramento, California;

(3) Central, regional, agency and field offices of the BIA, and

(4) Offices of those Indian tribal governments that administer realty or title programs under Self-Determination or Self-Governance awards. (For a listing of specific locations, contact the System Manager).

Categories of individuals covered by the system:

Individuals, non-Indians and Indians, and Indian tribal entities who are owners of land held in trust or restricted status by the Federal Government.

Individuals, non-Indians and Indians, Indian tribal entities, private businesses and financial institutions that have a permit, lease, contract, right-of-way, or other legal instrument approved by the Secretary of the Interior that allows them to use trust or restricted land, or to extract resources from the trust or restricted land.

Categories of records in the system:

The system of records will be in the following forms or formats: Digital, spatial, and electronic data records; hard copy records, individually or in files; maps and plats. The system of records will include:

(a) A legal land description, current ownership, probate and history of Indian trust lands, including title and beneficial ownership, and resource management classification for all land held in trust or restricted status by the Federal Government for the benefit of Indian tribes and individual Indians;

(b) Any encumbrances against the title to land;

(c) The name, address, Bureau identification number, and Federal tax identification number of each Indian land owner;

(d) The name, address, and Social Security Number of each person or entity who has a permit, lease, contract, right-of-way, or other legal instrument approved by the Secretary of the Interior that allows such entity to use the trust or restricted land, or to extract renewable or non-renewable resources from such land;

(e) The name, address, and taxpayer identification number of any company that has a permit, lease, contract, right-of-way or other legal instrument approved by the Secretary of the Interior that allows such company to use the trust or restricted land or to extract renewable or nonrenewable resources from such land;

(f) The term of the permit, lease, contract, right-of-way or other legal instrument;

(g) Records concerning individuals which have arisen as a result of that individual's receipt of overpayment(s) relative to land disposal, leases, sales and rentals; and

(h) The trust income collected and distributed for such permit, lease, contract, right-of-way or other legal instrument.

Authority for maintenance of the system:

25 U.S.C. 5, 12, 163, 392, 415; 25 U.S.C. 2201 et seq.; 25 U.S.C. 4021 et seq.; 25 CFR 150, 152.

Routine uses of records maintained in the system, including categories of users and the purposes of such uses:

The purpose of TAAMS is to provide BIA and Indian tribal officials nationwide access to trust asset data (including land title records) and trust asset management tools. The management tools allow TAAMS users to access, create, and modify records in the BIA database for land ownership, contracts and leases, and beneficial owners. TAAMS is replacing the existing legacy system Land Records Information System (LRIS), among other BIA-developed systems. TAAMS interfaces and exchanges data with the DOI system TFAS, and is proposed to interface with ProTrac. TFAS, which is owned by the Office of the Special Trustee for American Indians (OST) through a private contractor, provides TAAMS with files containing names, addresses and other personal data on individuals who receive payments from OST for natural resources, such as gas and oil, produced on their land. TAAMS data are not shared with any system outside DOI or its agents.

DOI, and its agents, including private contractors, and tribes that compact, contract, or enter into cooperative agreements with the Department use the records to:

(a) Identify the ownership interests, including the name of Indian owners and percentage interest in Indian lands held in trust or restricted status;

(b) Record land conveyance and encumbrance and lien transactions;

(c) Determine beneficial rights to the land and resources;

(d) Appropriately manage trust and restricted land and natural resources for the benefit of the Indian landowner;

(e) Provide land statistics in support of budget and management initiatives; and

(f) Answer beneficiary questions regarding land rights.

Disclosures of these records outside the Department of the Interior will be limited to:

(1) Another Federal agency to enable that agency to respond to an inquiry by the individual to whom the record pertains.

(2)(a) To any of the following entities or individuals, when the circumstances set forth in (b) are met:

(i) The Department of Justice (DOJ);

(ii) a court, adjudicative or other administrative body;

(iii) a party in litigation before a court or adjudicative or administrative body; or

(iv) any DOI employee acting in his or her individual capacity if DOI or DOJ has agreed to represent that employee or pay for private representation of the employee;

(b) When:

(i) One of the following is a party to the proceeding or has an interest in the proceeding:

(A) DOI or any component of DOI;

(B) Any DOI employee acting in his or her official capacity;

(C) Any DOI employee acting in his or her individual capacity if DOI or DOJ has agreed to represent that employee or pay for private representation of the employee;

(D) The United States, when DOJ determines that DOI is likely to be affected by the proceeding; and

(ii) DOI deems the disclosure to be:

(A) Relevant and necessary to the proceeding; and

(B) Compatible with the purposes for which the records were compiled.

(3) To a congressional office in response to a written inquiry an individual covered by the system has made to the congressional office about him or herself.

(4) To an official of another Federal agency to provide information needed in the performance of official duties related to reconciling or reconstructing data files, in support of the functions for which the records were collected and maintained.

(5) To representatives of the National Archives and Records Administration to conduct records management inspections under the authority of 44 U.S.C. 2903 and 2904.

(6) The appropriate Federal, state, tribal, or local governmental agency that is responsible for investigating, prosecuting, enforcing or implementing a statute, rule, regulation, order or license, when DOI becomes aware of an indication of a violation or potential violation of the statute, rule, regulation, order or license.

(7) To any of the following entities or individuals, when the entity or individual makes a written request for names or mailing addresses of owners of any interest in trust or restricted lands, and information on the location of the parcel and the percentage of undivided interest owned by each individual:

(i) Other owners of interests in trust or restricted lands within the same reservation;

(ii) The tribe that exercises jurisdiction over the land where the parcel is located or any person who is eligible for membership in that tribe; and

(iii) Any person that is leasing, using, or consolidating, or is applying to lease, use, or consolidate, such trust or restricted land or the interest in trust or restricted lands.

(8) Indian tribes entering into a contract or compacts of real estate or title functions under the Indian Self-Determination and Education Assistance Act, as amended.

Disclosure to consumer reporting agencies:

Pursuant to 5 U.S.C. 552a(b)(12), disclosures may be made to a consumer reporting agency as defined in the Fair Credit Reporting Act (15 U.S.C. 1681a(f)) or the Federal Claims Collection Act of 1966 (31 U.S.C. 3701(a)(3)).

Policies and practices for storing, retrieving, accessing, retaining, and disposing of records in the system:

Storage:

Manual Records: Original title documents, title document copies, certified copies, and certifiable copies, are maintained at the Land Titles and Records Offices and other Land Titles and Records program offices, together with reports and certified reports of title documents and of land title and ownership and all transaction documents on files in support of the land or title documents.

Electronic Records: Data extracted from such title documents about land owners, ownership, conveyances, encumbrances, valuation and income, are maintained on electronic media (e.g., tape, disk, CD Rom and other digital or electronic media.)

Retrievability:

Information may be retrieved primarily by trained individuals possessing appropriate access querying the TAAMS database. Records are retrieved using either: (a) An identifier linked to a parcel; (b) an identifier for a property interest owner, such as name, Social Security Number, tribe, tribal enrollment, or census numbers; or (c) identifiers linked to encumbrances on ownership such as mortgages and rights-of-way.

Safeguards:

During business hours, paper records are maintained in areas accessible only by authorized personnel in a secured office environment and comply with the minimum DOI safeguard requirements for maintaining Privacy Act system of records under 43 CFR 2.51. Electronic records are accessible via a password from terminals located in attended offices and the data in those regards may be changed only by personnel with approved access. Electronic records comply with DOI and National Institute of Standards and Technology cyber security requirements. After business hours, buildings have security guards and/or secured doors, and all entrances are monitored by electronic surveillance equipment. A Privacy Impact Assessment is being completed for land title records files and TAAMS in accordance with the E-Government Act of 2002 and OMB requirements for new and amended information systems.

Retention and disposal:

Records are permanently retained for historical index. Originals, copies and certified copies of Indian land records may be located at BIA regional and agency offices or at the archives in Lenexa, Kansas. The Office of Trust Records is currently working with BIA to prepare a schedule for retention and disposal of records in TAAMS.

System manager(s) and address:

Deputy Director, Office of Trust Services, Bureau of Indian Affairs, 1849 C Street, NW., MS 4513 MIB, Washington, DC 20240.

Notification procedure:

If you wish to determine if the system contains information about you, contact the System Manager at the address above. Provide the following information with your request:

(a) Proof of your identity;

(b) List of all of the names by which you have been known, such as maiden name or alias;

(c) Your Social Security Number;

(d) Mailing address;

(e) Tribe, tribal enrollment or census number;

(f) BIA home agency; and

(g) Time period(s) that records belonging to you may have been created or maintained, to the extent known by you.

The request must be in writing and signed by you. To ensure proper handling of your request, you should include the words “PRIVACY ACT INQUIRY” at the top of the first page of your letter and on the envelope in which you mail the letter. For additional information refer to 43 CFR 2.60.

Record access procedures:

If you wish to obtain a copy of any your records contained in the system, contact the System Manager at the address above. Provide the following information with your request:

(a) Proof of your identity;

(b) List of all of the names by which you have been known, such as maiden name or alias;

(c) Your Social Security Number;

(d) Mailing address;

(e) Tribe, tribal enrollment or census number;

(f) BIA home agency; and

(g) Time period(s) that records belonging to you may have been created or maintained, to the extent known by you.

The request must be in writing and signed by you. You should let us know whether you are seeking all of the records about you that may be maintained by the system, or only a specific portion of them. If you are only seeking a portion of them, you should describe those records you are seeking with sufficient detail to enable an individual familiar with the system to locate them with a reasonable amount of effort. To ensure proper handling of your request, you should include the notation “PRIVACY ACT REQUEST FOR ACCESS” at the top of the first page of your letter and on the envelope in which you mail the letter. For additional information, refer to 43 CFR 2.63.

Contesting record procedures:

To request corrections or the removal of any specific record contained in the system, contact the System Manager at the address above. Provide the following information with your request:

(a) Proof of your identity;

(b) List of all of the names by which you have been known, such as maiden name or alias;

(c) Your Social Security Number;

(d) Mailing address;

(e) Tribe, tribal enrollment or census number;

(f) BIA home agency; and

(g) Time period(s) that records belonging to you may have been created or maintained, to the extent known by you.

The request must be in writing and signed by you. Before you make such a request, you must have requested access to your records and have either impacted them or obtained copies of them as described above. You must also identify which record or portion thereof you are contesting, indicating why you believe that it is not accurate, relevant, timely, or complete, and provide a copy of any documents in your possession that support your claim with your letter. You may also propose specific language to implement the changes sought. To ensure proper handling of your request, you should include the notation “PRIVACY ACT REQUEST FOR AMENDMENT” at the top of the first page of your letter and on the envelope in which you mail the letter. For additional information, refer to 43 CFR 2.71.

Record source categories:

(a) BIA, OST, Minerals Management Service, Bureau of Land Management, Office of Hearings and Appeals, and other appropriate agencies in DOI;

(b) Other Federal, state, and local agencies;

(c) Tribal offices if the title or realty function is contracted or compacted under the Indian Self-Determination and Education Assistance Act, Pub. L. 93-638, 86 Stat. 2203, as amended;

(d) Courts of competent jurisdiction, including tribal courts; and

(e) Private, financial and business institutions, and entities.

Exemption claimed for the system:

None.

[FR Doc. E7-3371 Filed 2-26-07; 8:45 am]

BILLING CODE 4310-W7-P